DEPARTMENT OF HEALTH AND HUMAN SERVICES

Administration for Children and Families

Grants and Cooperative Agreements; Notice of Availablility

Federal Agency Contact Name: Administration for Children and Families (ACF), Administration on Children, Youth and Families, Child Care Bureau.

Funding Opportunity Title: Native Hawaiian and Nonprofit American Indian Organization Child Care Grants.

Announcement Type: Initial.

Funding Opportunity Number: HHS-2004-ACF-ACYF-YN-0012.

CFDA Number: 93.575.

Due Date for Applications: The due date for receipt of applications is May 19, 2004.

I. Funding Opportunity Description

Grants awarded under this announcement are to increase the availability, affordability and quality of child care services by establishing child care programs in areas that have been previously underserved and/or have unmet needs. This funding opportunity provides funding for up to two child care programs: one serving Native Hawaiian youth; and one serving Indian and/or Native Hawaiian youth.

One of the goals of the Child Care and Development Block Grant (CCDBG) Act is “to promote parental choice to empower working parents to make their own decisions on the child care that best suits their family's needs.” In support of this goal, the applicant is expected to design and implement a certificate program since it promotes parental choice in selecting Child Care and Development Fund (CCDF) funded child care providers. However, while certificates ensure parental choice, contracted slots also play an important role in meeting the child care needs of families, particularly in rural areas, for infant-care, or for children with special needs. To promote full parental choice, care by sectarian providers (e.g., faith-based) may not be limited or excluded under this announcement.

To meet the purposes and goals of the CCDBG Act, as amended, the applicant is required to comply with the same requirements as grantees receiving tribal formula grants under the CCDF program. Therefore, unless otherwise indicated, the regulations at 45 CFR parts 98 and 99 will apply to grants awarded under this program announcement. The applicant must also include a statement that it will comply with the applicable list of assurances found in 45 CFR 98.15 of the CCDF final rule.

Therefore, it is incumbent for the applicant to design a child care program that will adequately address the needs and unique circumstances of the population it intends to serve. If the applicant is unable to operate a certificate program, or chooses to provide child care services through grants and contracts exclusively, it must justify this approach in its program narrative and assure how the alternative approach will promote parental choice. In developing a project, an applicant should review the CCDF Tribal Plan Preprint because it requests information required by the CCDF Act and regulations at 45 CFR parts 98 and 99. The Tribal Plan Preprint is available on the Child Care Bureau's Web site at: http://www.acf.dhhs.gov/programs/ccb/policy1/current/pi0303/preprint.htm. The Child Care Bureau's website also contains extensive technical assistance resources to assist applicants in developing proposals (http://www.acf.hhs.gov/programs/ccb/ta/index.htm).

Title VI of the Personal Responsibility and Work Opportunity Reconciliation Act of 1996 (Pub. L. 104-193) amended the CCDBG Act to permit Tribal grantees to use CCDF funds for construction or major renovation of child care facilities. Therefore, in its grant application the applicant should describe any anticipated construction and renovation projects that will be funded with CCDF funds, and estimate the amount of funds that will be used for these projects. However, grant funds cannot be spent for construction or major renovation until a grantee has applied for and received approval, through a separate application process, from the Department of Health and Human Services (DHHS). A grantee may submit a request to spend part of its grant for construction or renovation through this separate application process once it has been awarded a CCDF grant under this announcement.

Information on the separate application process can be found on the Bureau's Web site at: http://www.acf.hhs.gov/programs/ccb/policy1/current/pi0101/pi0101.htm. As part of the separate application process, a grantee must show that adequate facilities are not otherwise available to carry out child care programs, and that the lack of facilities will inhibit the operation of such programs in the future. The amount of funds that a grantee may request for construction or major renovation through the separate application process is limited to the amount estimated in the grantee's original CCDF application under this announcement.

Furthermore, statutory language at section 6580(c)(6) of the amended CCDBG Act indicates that Congress does not intend for construction and major renovation projects to unnecessarily divert resources from the provision of child care services. Because grants under this announcement are designed to operate child care programs in areas with unmet need, a grantee should reserve adequate funds for direct child care services. While some construction and major renovation activity is allowable under this program announcement, in accordance with V Application Review Information, 1 Evaluation Criterion, Criterion 5 Budget, the applicant will have to demonstrate that funds will be used for direct child care services and the funds requested are reasonable in regard to the number of eligible children to be served.

Definition of Terms. The following definitions apply:

Categories of Care—center-based child care, group home child care, family child care and in-home care.

Center-Based Child Care Provider—a provider licensed or otherwise authorized to provide child care services for fewer than 24 hours per day per child in a non-residential setting, unlesscare in excess of 24 hours is due to the nature of the parent(s)' work.

Child Care Certificate—a certificate (that may be a check, or other disbursement) that is issued by a grantee directly to a parent who may use such certificate only as payment for child care services or as a deposit for child care services if such a deposit is required of other children being cared for by the provider, pursuant to 45 CFR 98.30. Nothing in this part shall preclude the use of such certificate for sectarian child care services if freely chosen by the parent. For the purposes of this part, a child care certificate is assistance to the parent, not assistance to the provider.

Construction—the erection of a facility that does not currently exist.

Discretionary Funds—the funds authorized under section 658B of the Child Care and Development Block Grant Act. The Discretionary funds were formerly referred to as the Child Care and Development Block Grant.

Eligible Child Care Provider—(1) A center-based child care provider, a group home child care provider, a family child care provider, an in-home child care provider, or other provider of child care services for compensation that is licensed, regulated, or registered under applicable State or local law as described in 45 CFR 98.40; and satisfies State and local requirements, including those referred to in 45 CFR 98.41 applicable to the child care services it provides; or (2) A child care provider who is 18 years of age or older who provides child care services only to eligible children who are, by marriage, blood relationship, or court decree, the grandchild, great grandchild, sibling (if such provider lives in separate residence), niece, or nephew of such provider, and complies with any applicable requirements that govern child care provided by the relative involved.

Family Child Care Provider—one individual who provides child care services for fewer than 24 hours per day per child, as the sole caregiver, in a private residence other than the child's residence, unless care in excess of 24 hours is due to the nature of the parent(s)' work.

Group Home Child Care Provider—two or more individuals who provide child care services for fewer than 24 hours per day per child, in a private residence other than the child's residence, unless care in excess of 24 hours is due to the nature of the parent(s)' work.

Indian Tribe—any Indian Tribe, band, nation, or other organized group or community, including any Alaska Native village or regional or village corporation as defined in or established pursuant to the Alaska Native Claims Settlement Act (43 U.S.C. section 1601 et seq.) that is recognized as eligible for the special programs and services provided by the United States to Indians because of their status as Indians.

In-Home Child Care Provider—an individual who provides child care services in the child's own home.

Licensing or Regulatory Requirements—requirements necessary for a provider to legally provide child care services in a State or locality, including registration requirements established under State, local or Tribal law.

Major Renovation—(1) structural changes to the foundation, roof, floor exterior or load-bearing walls of a facility, or the extension of a facility to increase its floor area; or (2) extensive alteration of a facility such as to significantly change its function and purpose, even if such renovation does not include any structural change.

Native Hawaiian Organization—a private nonprofit organization that serves the interests of Native Hawaiians and is recognized by the Governor of Hawaii for the purpose of planning, conducting or administering programs (or portions of programs) for the benefit of Native Hawaiians.

Other Tribal Organizations—for purposes of this announcement, such term refers to those organizations defined by section 658P(14)(B) of the CCDBG Act as a private nonprofit organizations established for the purpose of serving youth who are Indians or Native Hawaiians.

Parent—a parent by blood, marriage or adoption and also means a legal guardian, or other person standing in loco parentis.

Provider—the entity providing child care services.

Sliding Fee Scale—a system of cost sharing by a family based on income and size of the family, in accordance with 45 CFR 98.42.

Types of Providers—the different classes of providers under each category of care. For the purposes of the CCDF, types of providers include non-profit providers, for-profit providers, sectarian providers and relatives who provide care.

II. Award Information

Funding Instrument Type: Grant.

Category of Funding Activity: ISS Income Security and Social Services.

Anticipated Total Program Funding: $2,000,000 in FY2004.

Anticipated Number of Awards: 1-2.

Ceiling on Amount of Individual Awards: $1,000,000 per budget period.

An application that exceeds the upper value of the dollar range specified will be considered “non-responsive” and be returned to the applicant without further review.

Floor of Individual Awards: $500,000 per budget period.

Average Anticipated Award Amount: $500,000 to $1,000,000 per budget period.

Project Periods for Awards: Up to three year project period with three 12 month budget periods.

III. Eligibility Information

1. Eligible Applicants: Native American tribal organizations.

Additional Information on Eligibility: The Personal Responsibility and Work Opportunity Reconciliation Act of 1996 (PRWORA) amended the CCDBG Act to add the following definition to the term “tribal organization,” to indicate other organizations that are potentially eligible for Discretionary Funding: “Other organizations—Such term includes a Native Hawaiian Organization, as defined in section 4009(4) of the Augustus F. Hawkins-Robert T. Stafford Elementary and Secondary School Improvement Amendments of 1988 and a private nonprofit organization established for the purpose of serving youth who are Indians or Native Hawaiians.”

Therefore, under this announcement, eligible applicants are: (1) A private nonprofit organization that serves the interests of Native Hawaiians and is recognized by the Governor of Hawaii for the purpose of planning, conducting, or administering programs (or parts of programs) for the benefit of Native Hawaiians; and (2) a private nonprofit organization established for the purpose of serving youth who are Indians or Native Hawaiians.

If an Indian organization is already receiving CCDF funding, it is not eligible to apply for funding under this program announcement. A list of current tribal CCDF grantees is available at: http://nccic.org/tribal/grantees.html.

Applicant Board Composition

An applicant must provide assurance that its duly elected or appointed board of directors is representative of the community identified to be served. To establish compliance with the requirement, applicants should provide information establishing that at least a majority of the individuals serving on the non-profit's governing board fall into one or more of the following categories: (1) A current or past member of the community to be served; (2) a prospective participant or beneficiary of the project to be funded; or (3) have a cultural relationship with the community to be served.

Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization is a non-profit and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Private, non-profit organizations are encouraged to submit with their applications the survey located under “Grant Related Documents and Forms” titled “Survey for Private, Non-Profit Grant Applicants” at www.acf.hhs.gov/programs/ofs/forms.htm.

2. Cost Sharing or Matching: No. Cost sharing or matching funds are not required for applications submitted under this program announcement.

3. Other.

DUNS Number

On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Beneficiary Eligibility Criteria

To be eligible to receive CCDF-funded child care services under this announcement, a child must be under the age of 13 and reside with a family whose income does not exceed 85% of the State Median Income (or Tribal Median Income) for a family of the same size and whose parent(s) are working or attending a job training or educational program or who receive or need to receive protective services.

An applicant may only submit one applicant under this announcement.

IV. Application and Submission Information

1. Address To Request Application Package

ACYF Operations Center, c/o The Dixon Group, Inc., OTO/CCB Funding, 118 Q Street, NE., Washington, DC 20002-2132, CCB@dixongroup.com, 1-866-796-1591, URL to Obtain Application Page: www.Grants.Gov.

2. Content and Form of Application Submission

A. Application Content

An original and two copies of each application are required. Each application must include the following components:

1. Table of Contents.

2. Abstract of Proposed Project—very brief, not to exceed 250 words, that would be suitable for use in an announcement that the application has been selected for a grant award and which identifies the type of project, the target population and the major elements of the work plan.

3. Completed Standard Form 424—that has been signed by an Official of the organization applying for the grant who has authority to obligate the organization legally.

4. Standard Form 424A—Budget Information—Non-Construction Programs.

5. Narrative Budget Justification—for each object class category required under Section B, Standard Form 424A.

6. Project Narrative—a narrative that addresses issues described in the “Application Review Information” and the “Review and Selection Criteria” sections of this announcement.

B. Application Format

1. Each application should include one signed original application and two additional copies of the same application.

2. Application materials must be submitted on white 8 and 1/2 x 11 inch paper only. Do not use colored, oversized or folded materials.

3. Do not include organizational brochures or other promotional materials, slides, films, clips, videos, etc.

4. The font size may be no smaller than 12 pitch and the margins must be at least one inch on all sides.

5. All application pages must be sequentially numbered throughout the package, beginning with the abstract of the proposed project as page number one.

6. Application materials must be presented either in loose-leaf notebooks or in folders with pages two-hole punched at the top center and fastened separately with a slide paper fastener.

C. Page Limitation

The application package, including sections for the Table of Contents, Project Abstract, Project and Budget Narratives and Business Plan, must not exceed 65 pages. The page limitation does not include the following attachments and appendices: Standard Forms for Assurances, Certifications, Disclosures, or any other supplemental documents that are required in this announcement.

D. Required Standard Forms

1. Applicants requesting financial assistance for a non-construction project must sign and return Standard Form 424B, Assurances: Non-Construction Programs, with their application. Note: Although construction is an allowable cost if approved by ACF (See I Funding Opportunity Description), the non-construction assurances must be submitted with this application.

2. Applicants must provide a Certification Regarding Lobbying. Prior to receiving an award in excess of $100,000, applicants shall furnish an executed copy of the lobbying certification. Applicants must sign and return the certification with their application.

3. Applicants must make the appropriate certification of their compliance with all Federal statues relating to nondiscrimination. By signing and submitting the application, applicants are providing the certification and need not mail back a certification form.

4. Applicants must make the appropriate certification of their compliance with the requirements of the Pro-Children Act of 1994, as outlined in the Certification Regarding Environmental Tobacco Smoke.

Applicants have the option of omitting from the application copies (not the original) specific salary rates or amounts for individuals specified in the application budget. The copies may include summary information.

You may submit your application to us in either electronic or paper format. To submit an application electronically, please use the www.Grants.gov apply site. If you use Grants.gov, you will be able to download a copy of the application package, complete it off-line, and then upload and submit the application via the Grants.gov site. You may not email an electronic copy of a grant application.

Please note the following if you plan to submit your application electronically via Grants.gov:

• Electronic submission is voluntary.

• When you enter the Grants.Gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgment from Grants.gov that contains a Grants.gov tracking number. The Administration for Children and Families will retrieve your application from Grants.gov

• We may request that you provide original signatures on forms at a later date.

• You may access the electronic application for this program on www.Grants.gov.

• You may search for the downloadable application package by the CFDA number.

Private non-profit organizations may voluntarily submit with their applications the survey located under “Grant Related Documents and Forms” titled “Survey for Private, Non-Profit Grant Applicants” at www.acf.hhs.gov/programs/ofs/forms.htm.

Please see Section V Criteria, for instructions on preparing the project summary/abstract and the full project description.

3. Explanation of Application Due Dates

The closing time and date for receipt of applications is 4:30 p.m. Eastern Standard Time (EST) on May 19, 2004. Mailed or hand carried applications received after 4:30 EST p.m. on the closing date will be classified as late.

Deadline: Mailed applications shall be considered as meeting an announced deadline if they are received on or before the deadline time and date at the ACYF Operations Center, c/o The Dixon Group, Inc., 118 Q Street, NE., Washington, DC 20002-2132, Attention: OTO/CCB Funding. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the ACYF Operations Center, c/o The Dixon Group, Inc., 118 Q Street, NE., Washington, DC 20002-2132, between Monday and Friday (excluding Federal holidays). This address must appear on the envelope/package containing the application with the note “Attention: OTO/CCB Funding.” Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

What to submit | Required content | Required form or format | When to submit
Table of Contents | As described above | Consistent with guidance in “Application Format” section of this announcement | By application date.
Abstract of Proposed Project | Brief abstract that identifies the type of project, the target population and the major elements of the proposed project | Consistent with guidance in “Application Format” section of this announcement | By application due date.
Completed Standard Form 424 | As described above and per required form | May be found on http://www.acf.hhs.gov/programs/ofs/forms.htm | By application due date.
Completed Standard Form 424A | As described above and per required form | May be found on http://www.acf.hhs.gov/programs/ofs/forms.htm | By application due date.
Narrative Budget Justification | As described above | Consistent with guidance in “Application Format” section of this announcement | By application due date.
Project Narrative | A narrative that addresses issues described in the “Application Review Information” and the “Review and Selection Criteria” sections of this announcement | Consistent with guidance in “Application Format” section of this announcement | By application due date.
Completed Standard Form 424B | As described above and per required form | May be found on http://www.acf.hhs.gov/programs/ofs/forms.htm | By application due date.
Certification regarding lobbying | As described above and per required form | May be found on http://www.acf.hhs.gov/programs/ofs/forms.htm | By application due date.
Certification regarding environmental tobacco smoke | As described above and per required form | May be found on http://www.acf.hhs.gov/programs/ofs/forms.htm | By application due date.

Additional Forms: Private non-profit organizations may voluntarily submit with their applications the survey located under “Grant Related Documents and Forms” titled “Survey for Private, Non-Profit Grant Applicants” at www.acf.hhs.gov/programs/ofs/forms.htm.

What to submit | Required content | Required form or format | When to submit
Survey for Private, Non Profit Grant Applicant | Per required form | May be found at http://www.acf.hhs.gov/programs/ofs/forms.htm | 60 days from release date.

4. Intergovernmental Review

State Single Point of Contact (SPOC)

This program is not covered under Executive Order 12372, “Intergovernmental Review of Federal Programs,” and 45 CFR Part 100, “Intergovernmental Review of Department of Health and Human Services Programs and Activities.”

5. Funding Restrictions

Pre-award costs are not allowable reimbursement charges to this grant program.

6. Other Submission Requirements

Electronic Link to Full Announcement: http://www.acf.hhs.gov/programs/ccb.

Electronic Address to Submit Applications: www.Grants.Gov.

Submission by Mail: Mailed applications shall be considered as meeting an announced deadline if they are received on or before the deadline time and date at the ACYF Operations Center, c/o The Dixon Group, Inc., 118 Q Street, NE., Washington, DC 20002-2132, Attention: OTO/CCB Funding Applicants are responsible for mailing applications well in advance, when using all mail services, to ensure that the applications are received on or before the deadline time and date.

Hand Delivery: Applications hand-carried by applicants, applicant couriers, other representatives of the applicant, or by overnight/express mail couriers shall be considered as meeting an announced deadline if they are received on or before the deadline date, between the hours of 8 a.m. and 4:30 p.m., EST, at ACYF Operations Center, c/o The Dixon Group, Inc., 118 Q Street, NE., Washington, DC 20002-2132, Attention: OTO/CCB Funding between Monday and Friday (excluding Federal holidays). Applicants are cautioned that express/overnight mail services do not always deliver as agreed.

ACF cannot accommodate transmission of applications by fax.

Electronic Submission: Please see Section IV Content and Form of Application Submission, for guidelines and requirements when submitting applications electronically.

V. Application Review Information

Paperwork Reduction Act of 1995 (Pub. L. 104-13):

Under the Paperwork Reduction Act of 1995, Pub. L. 104-13, the Department is required to submit to the Office of Management and Budget (OMB) for review and approval of any reporting and record keeping requirements in regulations including program announcements. This program announcement does not contain information collection requirements beyond those approved for ACF grant applications under the Program Narrative Statement by OMB (Approval Number 0970-0319 which expires 3/31/2004).

Public reporting burden for this collection is estimated to average 25 hours per response, including the time for reviewing instructions, gathering and maintaining the data needed and reviewing the collection of information.

An agency may not conduct or sponsor, and a person is not required to respond to, a collection of information unless it displays a currently valid OMB control number.

1. Criteria

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, describe who will receive child care services, where and how these services will be provided, the anticipated numbers of children and families to be served, and how the services will benefit the children, families and community to be served.

Approach

Outline a plan of action, which describes the scope and detail of how the proposed work will be accomplished. Provide quantitative monthly or quarterly projections of the accomplishments to be achieved for each function or activity in such terms as the number of children to be served and the number of activities accomplished. Account for all functions or activities identified in the application. Cite factors that might accelerate or decelerate the work and state your reasons for taking the proposed approach rather than others. Describe any unusual features of the project such as design or technical innovations, reductions in cost or time or extraordinary social and community involvement. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution. Provide a biographical sketch for each key person appointed and a job description for each vacant key position.

Provide a plan for securing resources and continuing project activities after Federal assistance has ceased.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs.

Evaluation Criteria

The five evaluation criteria that follow will be used to review and evaluate each application. Each of the criteria should be addressed in the project description section of the application. The point values indicate the maximum numerical weight each criterion will be accorded in the review process. Note that the highest possible score an application can receive is 100 points.

Criterion 1: Approach (40 Points)

• The extent to which the plan of action is appropriate and sufficient for addressing the scope of work.

• The extent to which specific outcomes to be achieved; performance targets; and critical milestones are identified.

• The extent to which the application defines the comprehensive nature of the project and demonstrates methods that will be used to ensure that the results can be used to address a statewide or nationwide project, in conformance with the scope of work.

Criterion 2: Objectives and Need for Assistance (20 points)

• The extent to which the application demonstrates that the proposed project addresses vital needs related to the program purposes and provides statistics and other data and information in support of its contention.

• The extent to which the application provides current supporting documentation or other testimonies regarding needs from State and local child care agencies and related organizations.

Criterion 3: Organizational Profiles (20 points)

• The extent to which the key staff possess the expertise necessary to conduct the activities demonstrated in the application and information contained in their vitae.

• The adequacy of the time devoted to this project by the project director and other key staff in order to ensure a high level of professional input and attention.

• The extent to which the application demonstrates the capacity to provide child care services that offer full parental choice.

• If training and technical assistance is proposed, the extent to which the application documents its abilities to provide those services in the area to be served by the project. If applicable, information provided by the applicant also addresses related achievements and competence of each cooperating or sponsoring organization.

• The extent to which the application documents effective coordination with other State, Native Hawaiian, Tribal and local early childhood education partners in its activities, as appropriate.

Criterion 4: Results and Benefits Expected (10 Points)

• The extent to which the objectives and need for assistance are clearly stated.

• The extent to which the application demonstrates the expected results will benefit the population to be served in meeting its child care needs.

Criterion 5: Budget ( 10 Points)

• The extent to which the scope of the project is reasonable for the funds available for these grants.

• The extent to which the budget and budget justification are appropriate for carrying out the proposed project.

2. Review and Selection Process

Each application submitted to ACYF will be screened to determine whether it was received by the closing date and time.

Applications received by the closing date and time will be screened for completeness and conformity with the following requirements. Only complete applications that meet the requirements listed below will be reviewed and evaluated competitively. Other applications will be returned to the applicants with a notation that they were unacceptable and will not be reviewed.

All applications must comply with the following requirements except as noted:

(a) The application must contain a signed Standard Form 424 Application for Federal Assistance “SF-424”, a Standard Form 424A Budget Information “SF-424A” and signed Standard Form 2424B Assurance-Non-Construction Programs “SF-424B” completed according to the instructions provided in this Program Announcement. The forms SF-424 and the FS-424B must be signed by an official of the organization applying for the grant who has authority to obligate the organization legally. The applicant's legal name as required on the SF-424 (Item 5) must match that listed as corresponding to the Employer Identification Number (Item 6);

(b) The application must include a project narrative that meets requirements set forth in this announcement.

(c) The application must contain documentation of the applicant's tax-exempt status as indicated in the “Additional Information on Eligibility” section of this announcement.

ACYF Evaluation of Applications

Applications that pass the initial ACYF screening will be reviewed and rated by a panel based on the program elements and review criteria presented in relevant sections of this program announcement. The review criteria are designed to enable the review panel to assess the quality of a proposed project and determine the likelihood of its success. The criteria are closely related to each other and are considered as a whole in judging the overall quality of an application. The review panel awards points only to applications that are responsive to the program elements and relevant review criteria within the context of this program announcement.

The ACYF Commissioner and program staff use the review scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with ACYF funds granted in the last five (5) years; comments of reviewers and government officials; staff evaluation and input; amount and duration of the grant requested and the proposed project's consistency and harmony with ACYF goals and policy; geographic distribution of applications; previous program performance of applicants; compliance with grant terms under previous HHS grants, including the actual dedication to program of mobilized resources as set forth in project applications; audit reports; investigative reports; and the applicant's progress in resolving any final audit disallowance on previous ACYF or other Federal agency grants.

VI. Award Administration Information

1. Award Notices

Successful applicants shall be notified 90 days following the application due date.

Following approval of the application selected for funding, ACF will mail a written notice of award to the applicant organization. The official award document is the Financial Assistance Award that specifies the amount of the Federal funds approved for use in the project, the project and budget period for which support is provided and the terms and conditions of the award. The notice of award signed by the grants management officer is the authorizing document.

Organizations whose applications will not be funded will be notified in writing.

2. Administrative and National Policy Requirements

45 CFR part 74, 45 CFR part 98, 45 CFR part 99.

3. Reporting Requirements

Programmatic Reports: Semi-annually and a final report is due 90 days after the end of the grant period.

Financial Reports: Semi-annually and a final report is due 90 days after the end of the grant period.

Original Reports and one copy should be mailed to: ACF Grants Officer, Administration on Children, Youth and Families, 330 C Street, SW., Room 2070.

Special Reporting Requirements: Annual Aggregate Tribal Program Data Form (ACF-700 form). The form and reporting instructions can be found at: http://www.acf.dhhs.gov/programs/ccb/policy1/triblist.htm.

VII. Agency Contacts

1. Program Office Contacts

Ginny Gorman, Child Care Bureau, Administration on Children, Youth and Families, 430 C Street, SW., Room 2046, Washington, DC 20447, Telephone 202-401-7260, E-mail: ggorman@acf.hhs.gov.

John Coakley, ACF Region IX, 50 United Nations Plaza, Room 450, San Francisco, CA 94102, Telephone 415-437-8554, E-mail: jcoakley@acf.hhs.gov.

2. Grants Management Office Contact

William Wilson, Grants Officer, Administration on Children and Families, Office of Grants Management, 330 C Street, SW., Washington, DC 20447, Telephone: 202-205-8913, E-mail: wwilson@acf.hhs.gov.

VIII. Other Information

The following websites provide child care and related information that may assist an applicant in developing a proposal: Child Care Resources:

Child Care Bureau: http://www.acf.dhhs.gov/programs/ccb/.

National Child Care Information Center: http://nccic.org.

Tribal Child Care Technical Assistance Center: http://nccic.org/tribal.

Dated: April 9, 2004.
Frank Fuentes,
Deputy Commissioner, Administration on Children, Youth and Families.

[FR Doc. 04-8786 Filed 4-16-04; 8:45 am]

BILLING CODE 4184-01-P